DEPARTMENT OF ENERGY

Federal Energy Regulatory Commission

[Docket No. CP07-53-001]

Downeast Pipeline, LLC; Notice of Amendment

January 24, 2007.

Take notice that on January 16, 2007, Downeast Pipeline, LLC (Downeast Pipeline), PO Box 865, Calais, Maine 04619, filed, in Docket No. CP07-53-001, an application to amend its pending application for a Certificate of Public Convenience and Necessity pursuant to section 7(c) of the Natural Gas Act (NGA) filed with the Commission on December 22, 2006. Downeast Pipeline proposes to amend its application to reflect a modification to its originally proposed pipeline route in order to avoid crossing the Moosehorn National Wildlife Refuge which is owned and managed by the U.S. Fish and Wildlife Service. The modification proposed by Downeast Pipeline affects 7.5 miles of the originally proposed 31-mile-long route and extends from milepost 10.2 to milepost 17.7, all as more fully set forth in the application which is on file with the Commission and open to public inspection. The Commission staff will determine if this amendment will have an effect on the schedule for the environmental review of this project. A Notice of Schedule for Environmental Review will be issued when Commission staff has received all the information necessary in order to complete the draft EIS.

Any questions regarding this application should be directed to Robert Wyatt, Downeast LNG, Inc., PO Box 865, Calais, ME 04619 or Lisa M. Tonery, Fulbright & Jaworski, 666 Fifth Avenue, New York, NY 10103-3198, (212) 318-3009.

This filing is available for review at the Commission's Washington, DC office or may be viewed on the Commission's Web site at http://www.ferc.gov/ using the “e-Library” link. Enter the docket number, excluding the last three digits, in the docket number field to access the document. For assistance, please contact FERC Online Support at ferconlinesupport@ferc.gov or Telephone: 202-502-6652; Toll-free: 1-866-208-3676; or for TTY, contact (202) 502-8659.

There are two ways to become involved in the Commission's review of this Project. First, any person wishing to obtain legal status by becoming a party to the proceeding for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this project and/or associated pipeline. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see 18 CFR 285.2001(a)(1)(iii) and the instructions on the Commission's Web site under the “e-filing” link. The Commission strongly encourages electronic filings.

Comment Date: February 21, 2008.

Kimberly D. Bose,
Secretary.

[FR Doc. E8-1621 Filed 1-29-08; 8:45 am]

BILLING CODE 6717-01-P